DEPARTMENT OF HEALTH AND HUMAN SERVICES

Office of the National Coordinator for Health Information Technology; American Health Information Community Population Health and Clinical Care Connections Workgroup Meeting

ACTION: Announcement of meeting.

SUMMARY: This notice announces the 15th meeting of the American Health Information Community Population Health and Clinical Care Connections Workgroup [formerly Biosurveillance Workgroup] in accordance with the Federal Advisory Committee Act (Pub. L. 92-463, 5 U.S.C., App.).

DATES: April 20, 2007, from 10 a.m. to 3:30 p.m. Eastern Daylight Time.

ADDRESSES: Hubert H. Humphrey Building (200 Independence Avenue, SW., Washington, DC 20201), Room 505A (please bring photo ID for entry to a Federal building).

FOR FURTHER INFORMATION CONTACT: http://www.hhs.gov/healthit/ahic/population/.

SUPPLEMENTARY INFORMATION: The Workgroup will continue deliberation on response management. The meeting will include testimony on Communications, and Countermeasure Allocation, Distribution and Administration tracking during a public health response.

The meeting will be available via Web cast. For additional information, go to: http://www.hhs.gov/healthit/ahic/population/pop_instruct.html.

Dated: March 22, 2007.
Judith Sparrow,
Director, American Health Information Community, Office of Programs and Coordination, Office of the National Coordinator for Health Information Technology.

[FR Doc. 07-1540 Filed 3-28-07; 8:45 am]

BILLING CODE 4150-24-M